DEPARTMENT OF TRANSPORTATION

Office of the Secretary

Notice of Applications for Certificates of Public Convenience and Necessity and Foreign Air Carrier Permits Filed Under Subpart B (Formerly Subpart Q) During the Week Ending April 21, 2006

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-24538.

Date Filed: April 17, 2006.

Due Date for Answers, Conforming Applications, or Motion to Modify Scope: May 8, 2006.

Description: Application of Qatar Airways Q.C.S.C. requesting a foreign air carrier permit which would enable it to provide scheduled and nonscheduled foreign air transportation of passengers, cargo and mail on any and all routes authorized pursuant to the Air Transportation Service Agreement between the Government of the United States and the Government of Qatar (U.S.-Qatar Open Skies Agreement”).

Docket Number: OST-2006-24576.

Date Filed: April 20, 2006.

Due Date for Answers, Conforming Applications, or Motion to Modify Scope: May 11, 2006.

Description: Application of JetClub AG requesting an exemption and a foreign air carrier permit authorizing JetClub to provide charter foreign air transportation of persons, property and mail between any point or points in Switzerland and any point or points in the United States; and between any point or points in the United States and any point or points in a third country or countries, provided that such service constitutes part of a continuous operation, with or without a change of aircraft, that includes air service to Switzerland for the purpose of carrying local traffic between Switzerland and the United States, and other charters between third countries and the United States.

Barbara J. Hairston,
Supervisory Dockets Officer, Federal Register Liaison.

[FR Doc. E6-7108 Filed 5-9-06; 8:45 am]

BILLING CODE 4910-9X-P